FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at 202-523-5843 or by e-mail at oti@fmc.gov.

Sicomex International Corp (OFF & NVO), 8458 NW 70th Street, Miami, FL 33166, Officers: Angelica Boscan, Treasurer (Qualifying Individual), Tayme Cabeza, President, Application Type: New OFF & NVO License.

Rado Logistics, Inc. (OFF & NVO), 2251 Sylvan Road, Suite 400, East Point, GA 30344, Officer: Lovett Brooks, CEO/Secretary/CFO (Qualifying Individual), Application Type: New OFF & NVO License.

Transit Air Cargo, Inc. (OFF & NVO), 2204 E 4th Street, Santa Ana, CA 92705, Officers: Gary Syner, CEO (Qualifying Individual), Gul Khodayar, President/Secretary, Application Type: New OFF & NVO License.

Jet Freight Global Co., LTD. (NVO), 312 Emerald Drive, Streamwood, IL 60107, Officer: Tai-Yu Liu, President/Secretary/Treasurer (Qualifying Individual), Application Type: New NVO License.

KT Logistics, Inc. (OFF & NVO), 1915 McKinley Avenue, Suite E, La Verne, CA 91750, Officers: Mary Ann Ruiz, COO (Qualifying Individual), James Amakasu, CFO/President, Application Type: Add NVO Services.

Speedmark Transportation, Inc. (NVO), 1525 Adrian Road, Burlingame, CA 94010, Officers: David Driscoll, Director-Corporate Affairs (USA) (Qualifying Individual), Anthony Tsou, President, Application Type: QI Change.

Airbridge Corp. (OFF & NVO), 147-03 182nd Street, Jamaica, NY 11413, Officer: Byung (Brian) Kim, President/Secretary/Treasurer (Qualifying Individual), Application Type: New OFF & NVO License.

Cargo Alliance Inc. (OFF & NVO), 583 Monterey Pass Road, Suite C, Monterey Park, CA 91754, Officer: Li Chen, President (Qualifying Individual), Application Type: Add OFF Services.

SDV (USA) Inc. (OFF & NVO), 150-10 132nd Avenue, Jamaica, NY 11434, Officers: Dorsey Piscatelli, Vice President (Qualifying Individual), Philippe Naudin, Director/President, Application Type: QI Change.

Winsys Logistics Inc. (NVO), 2628 Walnut Grove Avenue, Suite A, Rosemead, CA 91770, Officer: Winsy Chan, President/Secretary/CFO (Qualifying Individual), Application Type: New NVO License.

Arrival Logistics Inc. (NVO), 14553 White Stallion Court, Chino hills, CA 91709, Officer: Tony Lu, President (Qualifying Individual), Application Type: New NVO License.

Modal Trade USA, Inc. (OFF & NVO), 8200 NW 41st Street, Suite 305, Miami, FL 33166, Officers: Paulina Yusta Castillo, Secretary (Qualifying Individual), Diego Urenda, President, Application Type: New OFF & NVO License.

Wing Bridge Shipping Company (OFF & NVO), 5155 Corporate Way, Unit B, Jupiter, FL 33458, Officer: Craig Firing, President (Qualifying Individual), Application Type: New OFF & NVO License.

Green Integrated Logistics, Inc. (OFF & NVO), 16210 South Maple Avenue, Gardena, CA 90248, Officers: Hyung Man Han, Secretary (Qualifying Individual), Won Kyung Kim, President/CEO/CFO, Application Type: New OFF & NVO License.

Angels Auto Export Inc. (NVO), 2930 South 50th Street, Tampa, FL 33619, Officers: Margara L. Barillas, President (Qualifying Individual), Danihel I. Barillas, Secretary, Application Type: New NVO License.

Russell A. Farrow (U.S.) Inc. (OFF & NVO), 4950 West Dickman Road, Battle Creek, MI 49037, Officers: Dustin H. King, Vice President (Qualifying Individual), Tom Kowalski, President, Application Type: License Transfer.

Ever Line Logistics Inc. (OFF & NVO), 147-35 Farmers Blvd., Suite 208, Jamaica, NY 11434, Officer: Caihong Yang, President/Secretary (Qualifying Individual), Application Type: New OFF & NVO License.

Sprint Global Inc. (NVO), 104 Hockorywood Blvd., Cary, NC 27519, Officers: Jagadeeswari Chandramouleeswaran, President (Qualifying Individual), Saraswathi Lakshmanan, Secretary, Application Type: New NVO License.

VR Logistics Incorporated (OFF & NVO), 30 Sheryl Drive, Edison, NJ 08820, Officers: Govind Shagat, Vice President/Treasurer (Qualifying Individual), Vanita Bhagat, President, Application Type: New OFF & NVO License.

Green World Cargo, LLC (NVO), 150-30 132nd Avenue, Suite 302, Jamaica, NY 11434, Officers: Harjinder P. Singh, President (Qualifying Individual), Salvatore J. Stile, II, Manager, Application Type: New NVO License.

Bandai Logipal America, Inc. (OFF & NVO), 5551 Katella Avenue, Cypress, CA 90630, Officers: Katsumi Imagane, President (Qualifying Individual), Norio Baba, CEO, Application Type: New OFF & NVO License.

Amerifreight (N.A.), Inc. (OFF & NVO), 218 Machlin Court, Walnut, CA 91789, Officer: Lionel Bao, President (Qualifying Individual), Application Type: New OFF & NVO License.

Managed Logistics Services, Incorporation (OFF & NVO), 20603 Wayne River Court, Cypress, TX 77433, Officers: Tiffni Clement, President (Qualifying Individual), Teresa Schouster, Secretary/Treasurer, Application Type: New OFF & NVO License.

Medi Trade Shipping Company, LLC (OFF & NVO), 2711 Centerville Road, Suite 400, Wilmington, DE 19808, Officer: Dina Singer-Badawi, Member (Qualifying Individual), Application Type: New OFF & NVO License.

EZ Logistics LLC (NVO), 120 Sylvan Avenue, Suite 3, Englewood Cliffs, NJ 07632, Officers: Ying Zhao, Member (Qualifying Individual), Jennifer Zheng, Member, Application Type: QI Change.

Dated: August 1, 2011.
Karen V. Gregory,
Secretary.

[FR Doc. 2011-19800 Filed 8-3-11; 8:45 am]

BILLING CODE 6730-01-P